FEDERAL COMMUNICATIONS COMMISSION

47 CFR Part 73

[DA 03-2636; MM Docket No. 03-36; RM-10431]

Radio Broadcasting Services; Woodbine, IA

AGENCY: Federal Communications Commission.

ACTION: Final rule.

SUMMARY: At the request of Harrison County Radio, this document dismisses its Petition for Rule Making proposing to allot Channel 293A to Woodbine, Iowa. See 68 FR 8728, published February 25, 2003. With this action, the proceeding is terminated.

FOR FURTHER INFORMATION CONTACT: Robert Hayne, Mass Media Bureau (202) 418-2177.

SUPPLEMENTARY INFORMATION: This is a synopsis of the Commission's Report and Order in MB Docket No. 03-36, adopted September 3, 2003, and released September 5, 2003. The full text of this decision is available for inspection and copying during normal business hours in the FCC's Reference Information Center at Portals II, CY-A257, 445 12th Street, SW., Washington, DC. The complete text of this decision may also be purchased from the Commission's copy contractor, Qualex International, Portals II, 445 12th Street, SW., Room CY-B402, Washington, DC 20554, telephone 202-863-2893, facsimile 202-863-2898, or via e-mail qualexint@aol.com.

Federal Communications Commission.
John A. Karousos,
Assistant Chief, Audio Division, Media Bureau.

[FR Doc. 03-23922 Filed 9-18-03; 8:45 am]

BILLING CODE 6712-01-P